DEPARTMENT OF COMMERCE

Foreign-Trade Zones Board

[S-185-2017]

Approval of Subzone Status; Orgill, Inc., Tifton, Georgia

On November 22, 2017, the Executive Secretary of the Foreign-Trade Zones (FTZ) Board docketed an application submitted by the Brunswick and Glenn County Development Authority, grantee of FTZ 144, requesting subzone status subject to the existing activation limit of FTZ 144, on behalf of Orgill, Inc., in Tifton, Georgia.

The application was processed in accordance with the FTZ Act and Regulations, including notice in the Federal Register inviting public comment (82 FR 56211, November 28, 2017). The FTZ staff examiner reviewed the application and determined that it meets the criteria for approval. Pursuant to the authority delegated to the FTZ Board Executive Secretary (15 CFR Sec. 400.36(f)), the application to establish Subzone 144C was approved on January 11, 2018, subject to the FTZ Act and the Board's regulations, including Section 400.13, and further subject to FTZ 144's 2,000-acre activation limit.

Dated: January 11, 2018.
Elizabeth Whiteman,
Acting Executive Secretary.

[FR Doc. 2018-00757 Filed 1-17-18; 8:45 am]

BILLING CODE 3510-DS-P